DEPARTMENT OF TRANSPORTATION

Surface Transportation Board

[STB Ex Parte No. 552 (Sub-No. 10)]

Railroad Revenue Adequacy—2005 Determination

AGENCY: Surface Transportation Board.

ACTION: Notice of decision.

SUMMARY: On October 23, 2006, the Board served a decision announcing the 2005 revenue adequacy determinations for the Nation's Class I railroads. The decision found one carrier, Norfolk Southern Railway Company, to be revenue adequate for the year 2005.

DATES: Effective Date: This decision is effective October 23, 2006.

FOR FURTHER INFORMATION CONTACT: Paul Aguiar, (202) 565-1527. (Federal Information Relay Service (FIRS) for the hearing impaired: 1 (800) 877-8339).

SUPPLEMENTARY INFORMATION: The Board is required to make an annual determination of railroad revenue adequacy. A railroad will be considered to have been revenue adequate under 49 U.S.C. 10704(a) for the year 2005 if it achieved a rate of return on net investment equal to at least the current cost of capital for the railroad industry for 2005. The 2005 cost of capital was determined to be 12.2% in Railroad Cost of Capital—2005, STB Ex Parte No. 558 (Sub-No. 9) (STB served Sept. 20, 2006). Applying this revenue adequacy standard to each Class I railroad, one carrier was found to be revenue adequate for 2005.

The Board's decision is posted on the Board's Web site, http://www.stb.dot.gov. In addition, copies of the decision may be purchased from ASAP Document Solutions by calling 202-306-4004 (assistance for the hearing impaired is available through FIRS at 1-800-877-8339), or by e-mail at asapdc@verizon.net.

Environmental and Energy Considerations

This action will not significantly affect either the quality of the human environment or the conservation of energy resources.

Regulatory Flexibility Analysis

Pursuant to 5 U.S.C. 603(b), we conclude that our action in this proceeding will not have a significant economic impact on a substantial number of small entities. The purpose and effect of the action are merely to update the annual railroad industry revenue adequacy finding. No new reporting or other regulatory requirements are imposed, directly or indirectly, on small entities.

Decided October 17, 2006.
By the Board, Chairman Nottingham, Vice Chairman Mulvey, and Commisioner Buttrey.
Vernon A. Williams,
Secretary.

[FR Doc. E6-17684 Filed 10-20-06; 8:45 am]

BILLING CODE 4915-01-P